ENVIRONMENTAL PROTECTION AGENCY

[ER-FRL-6659-8]

Environmental Impact Statements; Notice of Availability

Responsible Agency: Office of Federal Activities, General Information (202)564-7167 or http://www.epa.gov/compliance/nepa/.

Weekly receipt of Environmental Impact Statements. Filed January 10, 2005 through January 14, 2005. Pursuant to 40 CFR 1506.9.

EIS No. 050011, DRAFT EIS, FAA, VA, Washington Dulles International Airport Project, Acquisition of Land, Construction and Operation, IAD 2004. Airport Layout Plan (ALP), Dulles, VA. Comment Period Ends: March 7, 2005. Contact: Brad Mehaffy (703) 661-1364.

EIS No. 050012, DRAFT EIS, IBR, CA, Central Valley Project Long-Term Water Service Contract. Renewals—American River Division, Proposes to Renew Long-Term Water Service Contracts, Sacramento,Placer and El Dorado Counties, CA, Comment Period Ends: March 7, 2005. Contact: David Robinson (916) 989-7179.

EIS No. 050013, FINAL EIS, FHW, MN, MN-371 North Improvement Project, Reconstruction from the intersection of Crow Wing County Road 18 in Nisswa to the Intersection of Cass County Road 42 in Pine River, Funding, NPDES Permit ,and U.S. Army, COE Section 404 Permit Issuance, Crow Wing and Cass Counties, MN, Wait Period Ends: February 22, 2005. Contact: Cheryl Martin (651) 291-6120.

EIS No. 050014, DRAFT EIS, FAA, CA, Los Angeles International Airport Proposed Master Plan Improvements, Alternative D Selected, Enhanced Safety and Security Plan, Los Angeles County, CA, Wait Period Ends: February 22, 2005. Contact: David B. Kessler (310) 725-3615.

EIS No. 050015, DRAFT EIS, EPA, CA, LA-3 Ocean Dredged Material Disposal Site off Newport Bay, Proposed Site Designation, Orange County, CA, Comment Period Ends: March 7, 2005. Contact: Lawrence J. Smith (213) 452-3846.

The Environmental Protection Agency's and the Corp of Engineers are Joint Lead Agencies for the above Project.

EIS No. 050016, DRAFT EIS, FHW, OH, OH-823, Portsmouth Bypass Project, Transportation Improvements, Funding and U.S. Army COE Section 404 Permit, Appalachian Development Highway, Scioto County, OH,Due: March 07, 2005. Contact: Dennis A. Decker (614) 280-6896.

Amended Notices

EIS No. 040557, DRAFT EIS, AFS, AK, Tuxekan Island Timber Sale(s) Project, Harvesting Timber, Coast Guard Bridge Permit and U.S. Army COE Section 10 and 404 Permits, Tongass National Forest, Thorne Bay Ranger District, Thorne Bay, AK., Comment Period Ends: March 7, 2005. Contact: Forrest Cole (907) 228-6200.

Revision of FR Notice published on 12/10/2004: CEQ Comment Period Ending 01/24/2005 has been reestablished to 3/7/2005. Due to submission of replacement copies of appendix B and C.

Dated: January 14, 2005.
B. Katherine Biggs,
Associate Director, Office of Federal Activities.

[FR Doc. 05-1149 Filed 1-19-05; 8:45 am]

BILLING CODE 6560-50-P